DEPARTMENT OF COMMERCE

National Oceanic and Atmospheric Administration

RIN 0648-XF400

Endangered and Threatened Species; Take of Anadromous Fish

AGENCY: National Marine Fisheries Service (NMFS), National Oceanic and Atmospheric Administration (NOAA), Commerce.

ACTION: Applications for one new scientific research permit and five scientific research permit renewals.

SUMMARY: Notice is hereby given that NMFS has received six scientific research permit application requests relating to Pacific salmon and steelhead. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on June 26, 2017.

ADDRESSES: Written comments on the applications should be sent to the Protected Resources Division, NMFS, 1201 NE Lloyd Blvd., Suite 1100, Portland, OR 97232-1274. Comments may also be sent via fax to 503-230-5441 or by email to nmfs.nwr.apps@noaa.gov (include the permit number in the subject line of the fax or email).

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Endangered upper Columbia River (UCR); threatened Snake River (SR) spring/summer (spr/sum).

Steelhead (O. mykiss): Threatened UCR; threatened SR; threatened middle Columbia River (MCR), threatened Lower Columbia River (LCR).

Authority

Scientific research permits are issued in accordance with section 10(a)(1)(A) of the ESA (16 U.S.C. 1531 et seq.) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1379-7R

The Columbia River Inter-Tribal Fish Commission (CRITFC) is seeking to renew a permit that currently allows them to take listed salmonids (UCR steelhead and Chinook) while conducting research designed to (1) increase what we know about the status and productivity of various fish populations, (2) collect data on migratory and exploitation (harvest) patterns, and (3) develop baseline information on various population and habitat parameters in order to guide salmonid restoration strategies. Much of the work in the permit has been conducted for nearly 20 years—first under permit 1134, and then under six previous versions of 1379. The permit would comprise three studies: Project 1—Juvenile Upriver Bright Fall Chinook Sampling at the Hanford Reach; Project 2—Adult Sockeye Sampling at Tumwater and Wells Dams; and Project 3—Acoustic trawl survey for Lake Wenatchee juvenile sockeye salmon.

The research, as a whole, would benefit listed fish by helping managers set in-river and ocean harvest regimes so that they have minimal impacts on listed populations. It would also help managers prioritize projects in a way that gives maximum benefit to listed species—including projects designed to help the listed fish recover. The researchers would use beach- and stick seines to capture and tag juvenile fish in the Hanford reach of the Columbia River and capture fish during mid-water trawls in Lake Wenatchee. Those fish that are not immediately released upon capture would be transported to a holding facility where they would be anesthetized, examined for marks, adipose-clipped, coded wire tagged, allowed to recover, and released. The researchers would also collect, anesthetize, tissue-sample, and tag adult salmonids at Tumwater and Wells Dams in Washington State. The CRITFC researchers do not intend to kill any of the fish being captured but a small number may die as an unintended result of the activities.

Permit 13381-3R

The Northwest Fisheries Science Center (NWFSC) is seeking to renew their permit to annually take natural juvenile SR spring/summer Chinook salmon and SR steelhead in various places in the Salmon River drainage in Idaho and at Little Goose and Lower Granite Dams on the lower Snake River. The purpose of the research is to continue monitoring parr-to-smolt survival and outmigration behavior in SR wild spring/summer Chinook salmon populations from Idaho. Steelhead juveniles that are inadvertently collected would also be tagged to help supplement an ongoing Idaho Department of Fish and Game study. The research would benefit the fish by continuing to supply managers with the information they need to budget water releases at hydropower facilities in ways designed to help protect migrating juvenile salmonids. The information gained would also be used to build long-term data sets on parr-to-smolt migration behavior and survival rates. This information, coupled with water quality, weather, and climate data, is intended to provide a foundation for understanding these populations' life histories—the knowledge of which is critical to building effective recovery actions. The listed fish would be captured (using seines, dip nets, and electrofishing), anesthetized, tagged, and released. A portion of these fish would also be re-captured at a smolt bypass facility, anesthetized, weighed, measured, and released. The researchers do not intend to kill any of the fish being captured, but a small percentage may die as an unintended result of the research activities.

Permit 13382-3R

The NWFSC is seeking to renew for five years a permit that currently allows them to annually take juvenile threatened SR spr/sum Chinook salmon and juvenile threatened SR steelhead at various places in the Snake River in Idaho and in various streams of Southeast Washington and Northeast Oregon. Most of the activities under this permit have been under way for nearly 20 years—first under Permit 1406 and then under previous versions of Permit 13382. Under the permit, the listed fish would be variously captured (using seines, dip nets, traps, and electrofishing), anesthetized, tissue sampled, weighed, measured, and released. They researchers would also add another study for this permit—one in which a small number of juvenile fish would be caught using electrofishing methods, anesthetized, and then held at varying temperature regimes to measure their cardiac performance. The fish would then in all cases be allowed to recover from the anesthetic and returned live to the place of their capture.

The purposes of the research are therefore (1) to continue monitoring the effects of supplementation among steelhead and spring/summer Chinook salmon populations in Idaho, and (2) measure cardiac performance in juvenile salmonids. The research would benefit the fish by continuing to supply managers with the information they need when seeking to use hatchery programs to conserve listed species. The researchers do not intend to kill any of the fish being captured, but some may die as an unintended result of the process.

Permit 17222-2R

The Confederated Tribes of the Warm Springs Reservation of Oregon (CTWSRO) are seeking a five-year permit to annually take MCR steelhead during the course of research designed to determine the feasibility of PIT-tagging juvenile summer/fall Chinook (a non-listed species) in the Deschutes River, Oregon. The purpose of the research is to generate population metrics such as juvenile growth rates, smolt-to-adult return ratios, size/condition at emigration, etc. This information would be used to develop performance indicators for monitoring the fishes' status and trends. This research would benefit listed species by helping managers develop a picture of river health and salmonid population trends in the Deschutes River. That information, in turn, would be used in recovery planning efforts and generally incorporated into resource management decisions that may affect the Deschutes River. The researchers intend to use seines to capture the fish and all captured MCR steelhead will be released immediately. The researchers do not propose to kill any of the listed salmonids being captured, but a small number may die as an unintended result of the activities.

Permit 17306-2R

The Oregon Department of Fish and Wildlife (ODFW) is seeking a five-year permit to capture threatened MCR steelhead (adults and juveniles) in the upper Deschutes River, Oregon. The various proposed activities would include adult and juvenile snorkel surveys throughout the basin, screw trapping, backpack and boat electrofishing and mark/recapture studies, hook and line surveys, telemetry, seining, spawning ground surveys using weirs and redd counts, monitoring habitat restoration projects, and setting traps and nets in reservoirs for population monitoring. Data collected from this work would be used to inform management decisions in the Deschutes River watershed. Biologists from the ODFW have been conducting this work in the area for decades. The researchers do not intend to kill any of the fish being captured, but a small percentage may be killed as an inadvertent result of the activities.

Permit 21220

The National Ecological Observatory Network (NEON) is seeking a five-year permit to take adult and juvenile LCR steelhead while conducting in-depth ecosystem research at an aquatic monitoring site on Martha Creek on the Gifford-Pinchot National Forest in the State of Washington. The NEON researchers intend to collect a comprehensive suite of biotic and abiotic data at the site, including sampling for fish, macroinvertebrates, microbes, plants, algae, sediments, water quality, and reaeration. Additionally, they would make discharge measurements, conduct a riparian habitat assessment and a morphological survey. The purpose of the research is to establish an ecological observatory with the goal of monitoring climate change, land use changes, and invasive species for the next 30 years.

The researchers would use backpack electrofishing equipment to capture fish. The fish would then be anesthetized, identified, photographed, measured, allowed to recover, and released back to the stream. Some tissue samples may be taken as well. The research would benefit listed fish by generating long-term data sets on the animals' health, abundance, and status in general. Those data, in turn, would be used to inform management decisions on the Gifford-Pinchot National Forest and the lower Columbia River ecosystem. The researchers do not intend to kill any of the fish being captured, but a small percentage may be killed as an inadvertent result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: May 22, 2017.
Angela Somma,
Chief, Endangered Species Division, Office of Protected Resources, National Marine Fisheries Service.

[FR Doc. 2017-10827 Filed 5-25-17; 8:45 am]

BILLING CODE 3510-22-P